INTERNATIONAL TRADE COMMISSION

[Investigation No. 337-TA-1287]

Certain Integrated Circuits, Chipsets, and Electronic Devices, and Products Containing the Same; Notice of a Commission Determination Not To Review an Initial Determination Terminating the Investigation Based on Settlement; Termination of Investigation

AGENCY: U.S. International Trade Commission.

ACTION: Notice.

SUMMARY: Notice is hereby given that the U.S. International Trade Commission has determined not to review an initial determination (“ID”) (Order No. 30) of the presiding administrative law judge (“ALJ”), granting a joint motion to terminate the investigation in its entirety based on settlement. The investigation is terminated.

FOR FURTHER INFORMATION CONTACT: Megan M. Valentine, Office of the General Counsel, U.S. International Trade Commission, 500 E Street SW, Washington, DC 20436, telephone (202) 708-2301. Copies of non-confidential documents filed in connection with this investigation may be viewed on the Commission's electronic docket system (“EDIS”) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on December 7, 2021, based on a complaint filed by NXP Semiconductors N.V. of Eindhoven, Netherlands, and NXP USA, Inc. of Austin, Texas (collectively, “Complainants”). 86 FR 69289-90 (Dec. 7, 2021). The complaint alleges a violation of section 337 of the Tariff Act, as amended, 19 U.S.C. 1337, from the importation, sale for importation, or sale in the United States after importation of certain integrated circuits, chipsets, and electronic devices, and products containing the same by reason of infringement of certain claims of U.S. Patent Nos. 9,729,214 (“the '214 patent”); 10,904,058 (“the '058 patent”); 8,482,136 (“the '136 patent”); 7,593,202; and 8,558,591. Id. at 69289. The complaint further alleges the existence of a domestic industry. Id. The Commission's notice of investigation names the following respondents: MediaTek Inc. of Hsinchu City, Taiwan; MediaTek USA Inc. of San Jose, California (collectively, “MediaTek”); Amazon.com, Inc. of Seattle, Washington; Belkin International, Inc. of Playa Vista, California; and Linksys USA, Inc. of Irvine, California (all collectively, “Respondents”). Id. at 69290. The Office of Unfair Import Investigations (“OUII”) is also a party to this investigation. Id.

The Commission previously terminated the investigation as to the '136 patent and certain claims of the '214 and '058 patents. Order No. 20 (May 31, 2022); unreviewed by Notice (June 21, 2022).

On July 12, 2022, Complainants and Respondents filed a joint motion to terminate the investigation based on a settlement agreement between the Complainants and MediaTek that resolves all disputes between Complainants and Respondents. No opposition to the motion was filed.

On July 13, 2022, the ALJ issued the subject ID (Order No. 30), granting the joint motion to terminate the investigation based on settlement. The ID finds that the motion for termination satisfies Commission Rule 210.21(b)(19 CFR 210.21(b)) and that no extraordinary circumstances exist that would prevent the requested termination. No petitions for review were filed.

The Commission has determined not to review the subject ID. The investigation is terminated in its entirety.

The Commission voted to approve this determination on July 25, 2022.

The authority for the Commission's determinations is contained in Section 337 of the Tariff Act of 1930, as amended (19 U.S.C. 1337), and in part 210 of the Commission's Rules of Practice and Procedure (19 CFR part 210).

By order of the Commission.
Issued: July 26, 2022.
Katherine Hiner,
Acting Secretary to the Commission.

[FR Doc. 2022-16365 Filed 7-29-22; 8:45 am]

BILLING CODE 7020-02-P